DEPARTMENT OF TRANSPORTATION

Federal Transit Administration

Environmental Impact Statement for the North Metro Corridor

AGENCY: Federal Transit Administration (FTA), U.S. Department of Transportation.

ACTION: Notice of intent to prepare an environmental impact statement (EIS).

SUMMARY: The Federal Transit Administration (FTA) and the Denver Regional Transportation District (RTD), in cooperation with the U.S. Army Corps of Engineers (USACE) and the Colorado Department of Transportation (CDOT), will prepare an Environmental Impact Statement (EIS) to evaluate the impacts of transit improvements, including a potential commuter rail line or a light rail line, in the North Metro Corridor between Downtown Denver and the City of Thornton in Adams County, Colorado. The EIS will be prepared in accordance with FTA/FHWA regulations (23 CFR 771 et seq.) implementing the National Environmental Policy Act (NEPA), as well as provisions of the recently enacted Safe, Accountable, Flexible, Efficient Transportation Equity Act: A Legacy for Users (SAFETEA-LU). The purpose of this Notice of Intent is to alert interested parties regarding the plan to prepare the EIS, to provide information on the nature of the proposed transit project, to invite participation in the NEPA process, including comments on the scope of the EIS proposed in this notice, and to announce that public scoping meetings will be conducted.

DATES: Written comments on the scope of the EIS should be sent to Dave Shelley, RTD Project Manager, by October 31, 2006. Public scoping meetings will be held on September 27 and 28, 2006 from 5:30 p.m. to 8:15 p.m. at the locations indicated below.

An interagency scoping meeting will be scheduled after agencies with an interest in the proposed project have been identified.

ADDRESSES: Written comments on the scope of the EIS should be sent to Dave Shelley, RTD Project Manager, North Metro Corridor, Regional Transportation District (RTD), 1560 Broadway, Suite 700, Denver, CO 80202. Comments may also be offered at the public scoping meetings. The addresses for the public scoping meetings are as follows:

Wednesday, September 27, 2006, City of Thornton Civic Center Complex, 9500 Civic Center Drive, Thornton, CO 80229.

Thursday, September 28, 2006, Bruce Randolph Middle School, 3955 Steele Street, Denver, CO 80205.

For more information for assistance needs for the scoping meetings, please contact Dave Shelley at (303) 299-2408 at least 48 hours before the meeting. All meetings will be conducted in wheelchair accessible locations.

FOR FURTHER INFORMATION CONTACT: Mr. David Beckhouse, Community Planner, Federal Transit Administration, Region VIII, 12300 West Dakota Ave., Suite 310, Lakewood, CO 80228-2583, (720) 963-3306.

SUPPLEMENTARY INFORMATION: The Proposed Project: The project extends 18 miles between Denver Union Station (DUS) and 162nd Avenue (SH7) north of Thornton. The project proposes stations at Globeville/Swansea, Commerce City, 88th Avenue, 100th Avenue, 112th Avenue, 124th Avenue, 144th Avenue, and 162nd Avenue.

Purposes of and Need for the Proposed Project: The North Metro area is forecast to be one of the fastest growing areas of the region and the country over the next 20 years. Growth rates for both population and employment are forecast to be double the regional average. The I-25 and I-76 corridors are forecast to intensify as employment corridors, with the areas between the two facilities filling in with residential development. Congestion along north I-25 is already severe, with forecasts indicating increasing severity and duration of congestion. In addition to increasing congestion, access through and from the area to other areas in the metro region is difficult. Many roadways are not continuous, requiring circuitous travel. Existing transit service in the area is minimal and utilizes the congested roadway network. The project will provide a new fixed-guideway, high-capacity transportation facility to improve local and regional mobility and accessibility for the North Metro area.

This transit project is included as part of RTD's FasTracks Program, a 12-year comprehensive plan for transit service and facilities in the Denver region. The FasTracks Plan is a $4.7 billion program that was endorsed by the voters of the Denver metropolitan area in 2004. The voters of the region approved an increase in the regional sales and use tax from 0.6% to 1.0% in order to provide for the expedited build out of the transit system. FasTracks includes a funding plan for 119 new miles of rail transit, 18 miles of bus rapid transit, 21,000 new spaces in park n Rides and significant improvements to the bus system. The FasTracks projects have been adopted in the current Denver area Regional Transportation Plan (RTP).

Alternatives: The EIS scoping process will include an evaluation of the results of the MIS conducted by RTD between 1998 and 2001 as well as the Three Corridors Scoping Study that was completed in October 2005. The Locally Preferred Alternative (LPA) of the MIS was either Light Rail Transit (LRT) or Diesel Multiple Units (DMU) between DUS and 124th Avenue along the Union Pacific Railroad (UPRR) Boulder Branch. This recommendation was approved by the Denver Regional Council of Governments and included in the fiscally constrained RTP and the MetroVision 2030 Master Plan.

FTA and RTD propose that the EIS evaluate the following three alternatives: 1. The no-action alternative is the option of implementing nothing more that the existing and committed road and transit improvements; 2. The TSM alternative includes various transportation improvements beyond the existing and committed projects plus enhanced bus transit service in the North Metro Corridor; 3. The MIS LPA will be evaluated as the proposed project as a commuter rail line between DUS and 162nd Avenue (SH 7) along the existing UPRR Boulder Branch line. The EIS will also consider any additional reasonable fixed-guideway, high capacity transit alternatives identified during scoping that provide similar transportation benefits while reducing or avoiding adverse impacts.

The NEPA Process and the Role of Participating Agencies and the Public: The purpose of the NEPA process is to explore, in a public setting, potentially significant effects of implementing the proposed action and alternatives on the physical, human, and natural environment. Areas of investigation include, but are not limited to, land use, development potential, land acquisition and displacements, historic resources, visual and aesthetic qualities, air quality, noise and vibration, energy use, safety and security, and ecosystems, including threatened and endangered species. Measures to avoid, minimize, or mitigate any significant adverse impacts will be identified. Regulations implementing NEPA, as well as provisions of the recently enacted Safe, Accountable, Flexible, Efficient Transportation Equity Act: A Legacy for Users (SAFETEA-LU), call for public involvement in the EIS process. Section 6002 of SAFETEA-LU requires that FTA and RTD do the following: (1) Extend an invitation to other Federal and non-Federal agencies and Indian tribes that may have an interest in the proposed project to become “participating agencies,” (2) provide an opportunity for involvement by participating agencies and the public in helping to define the purpose and need for a proposed project, as well as the range of alternatives for consideration in the EIS; and (3) establish a plan for coordinating public and agency participation in and comment on the environmental review process. An invitation to become a participating agency, with the scoping information packet appended, will be extended to other Federal and non-Federal agencies and Indian tribes that may have an interest in the proposed project. It is possible that we may not be able to identify all Federal and non-Federal agencies and Indian tribes that may have such an interest. Any Federal or non-Federal agency or Indian tribe interested in the proposed project that does not receive an invitation to become a participating agency should notify at the earliest opportunity the Project Manager identified above under ADDRESSES.

A comprehensive public involvement program will be developed and a public and agency involvement Coordination Plan will be created. The program will include outreach to local and county officials and community and civic groups; a public scoping process to define the issues of concern among all parties interested in the project; organizing periodic meetings with various local agencies, organizations and committees; a public hearing on release of the Draft Environmental Impact Statement (DEIS); and development and distribution of project newsletters.

The purposes of and need for the proposed project have been preliminarily identified in this notice. We invite the public and participating agencies to consider the preliminary statement of purposes of and need for the proposed project, as well as the alternatives proposed for consideration. Suggestions for modifications to the statement of purposes of and need for the proposed project and any other alternatives that meet the purposes of and need for the proposed project are welcomed and will be given serious consideration. Comments on potentially significant environmental impacts that may be associated with the proposed project and alternatives are also welcomed. There will be additional opportunities to participate in the scoping process in addition to the public meetings announced in this notice.

In accordance with 23 CFR 771.105(a) and 771.133, FTA will comply with all Federal environmental laws, regulations, and executive orders applicable to the proposed project during the environmental review process. These requirements include, but are not limited to, the regulations of the Council on Environmental Quality and FTA implementing NEPA (40 CFR parts 1500-1508, and 23 CFR part 771), the project-level air quality conformity regulation of the U.S. Environmental Protection Agency (EPA) (40 CFR part 93), the Section 404(b)(1) guidelines of EPA (40 CFR part 230), the regulation implementing Section 106 of the National Historic Preservation Act (36 CFR part 800), the regulation implementing section 7 of the Endangered Species Act (50 CFR part 402), Section 4(f) regulation implementing the DOT Act (23 CFR 771.135), and Executive Orders 12898 on environmental justice, 11988 on floodplain management, and 11990 on wetlands.

In accordance with 36 CFR 800.8 FTA and RTD will coordinate compliance with Section 106 requirements and the requirements of the NEPA Process. RTD will utilize the Memorandum of Agreement between the FTA, Region VIII and the U.S. Army Corps of Engineers (USACE), dated January, 2006 for documentation to comply with Section 404 mandates.

In addition, RTD may seek Section 5309 New Starts funding for the project. As provided in the FTA New Starts regulation (49 CFR part 611), New Starts funding requires the submission of certain specific information to FTA to support a request to initiate preliminary engineering, which is normally done in conjunction with the NEPA process.

Issued on: September 7, 2006.
Lee O. Waddleton,
Regional Administrator, Region VIII, Federal Transit Administration.

[FR Doc. E6-15093 Filed 9-11-06; 8:45 am]

BILLING CODE 4910-57-P